DEPARTMENT OF LABOR

Employment and Training Administration

[TA-W-54,022]

Advanced Micro Devices (AMD), C4 Bump, Austin, TX; Notice of Termination of Investigation

Pursuant to section 221 of the Trade Act of 1974, as amended, an investigation was initiated on January 15, 2004 in response to a worker petition filed on behalf of workers at Advanced Micro Devices, C-4 Bump, Austin, Texas. These workers are part of the company's vertically integrated manufacturing of microprocessor chips at Advanced Micro Devices, Fab 25, Austin, Texas.

The petitioning group of workers is covered by an active certification issued on July 9, 2003 and which remains in effect (TA-W-50,283). Consequently, further investigation in this case would serve no purpose, and the investigation has been terminated.

Signed at Washington, DC this 12th day of February 2004.
Elliott S. Kushner,
Certifying Officer, Division of Trade, Adjustment Assistance.

[FR Doc. 04-5087 Filed 5-11-04; 8:45 am]

BILLING CODE 4510-30-P